DEPARTMENT OF HOMELAND SECURITY

Agency Information Collection Activities: Request for Expressions of Interest (EOI) To Perform a Chemical Defense Demonstration Project

AGENCY: Office of Health Affairs Chemical Defense Program, DHS.

ACTION: 60-Day Notice and request for comments; New Collection, 1601—NEW.

SUMMARY: The Department of Homeland Security, Office of Health Affairs Chemical Defense Program, will submit the following Information Collection Request (ICR) to the Office of Management and Budget (OMB) for review and clearance in accordance with the Paperwork Reduction Act of 1995 (Pub. L. 104-13, 44 U.S.C. Chapter 35).

DATES: Comments are encouraged and will be accepted until April 9, 2013. This process is conducted in accordance with 5 CFR 1320.1.

ADDRESSES: Written comments and questions about this Information Collection Request should be forwarded to Office of Health Affairs Chemical Defense Program, DHS, Attn.: CAPT Joselito Ignacio, joselito.ignacio@hq.dhs.gov, 202-254-5738.

SUPPLEMENTARY INFORMATION: The Chemical Defense Program seeks to obtain information from respondents interested in hosting a demonstration project aimed at developing a comprehensive chemical defense framework. The authority for the Chemical Defense Program to collect this information can be found in Public Law 112-74, Consolidated Appropriations Act, 2012 and Conference Report 112-331.

The information requested on the form includes: name of state, local, tribal, or territorial government agency; address; submitter's name, position and contact information; identified venue for demonstration project; interest in developing a chemical defense capability; specific reasons for the communities interest and needs for a chemical defense capability; community chemical threat assessed risks if applicable; any additional information respondent requests for consideration. As identified in Public Law 112-74 and Conference Report 112-331, the Chemical Defense Program must competitively select the locations for conducting the chemical defense demonstration projects. The Chemical Defense Program will use the provided information for the selection process. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Health Affairs Chemical Defense Program, DHS.

Title: Request for Expressions of Interest (EOI) To Perform a Chemical Defense Demonstration Project.

OMB Number: 1601-NEW.

Frequency: Once.

Affected Public: State, Local, or Tribal Government.

Number of Respondents: 25.

Estimated Time Per Respondent: 20 hours.

Total Burden Hours: 500 Hours.

Dated: January 29, 2013.
Richard Spires,
Chief Information Officer.

[FR Doc. 2013-02886 Filed 2-7-13; 8:45 am]

BILLING CODE 9110-9B-P